DEPARTMENT OF THE INTERIOR

Office of the Secretary

[OMB Control Number 1035-0NEW; 15XD0120AF DST000000.54FY DT11100000]

Proposed Collection of Information Collection: Tribal Evaluation of Indian Trust Programs Compacted by Tribes

AGENCY: Office of the Special Trustee for American Indians, Office of Trust Review & Audit, Interior.

ACTION: Notice and request for comments.

SUMMARY: In compliance with the Paperwork Reduction Act of 1995, the Office of Trust Review & Audit, Office of the Special Trustee for American Indians, Department of the Interior announces the proposed collection of information and seeks public comments on the provisions thereof.

DATES: Consideration will be given to all comments received by July 27, 2015.

ADDRESSES: Send your written comments to Nolan Solomon, Office of the Special Trustee for American Indians, U.S. Department of the Interior, 4400 Masthead Street NE., Albuquerque, NM 87109, fax 505-816-1380, or by electronic mail to Nolan_Solomon@ost.doi.gov. Please mention that your comments concern the “OMB ID 1035-0NEW—Tribal Evaluation of Indian Trust Programs Compacted by Tribes”.

FOR FURTHER INFORMATION CONTACT: To request a copy of the information collection request, any explanatory information and related forms, see the contact information provided in the ADDRESSES section above.

SUPPLEMENTARY INFORMATION:

I. Abstract

This notice is for collection of information and public comment.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)).

Under 25 CFR 1000.355, the Secretary's designated representative will conduct trust evaluations for each self-governance tribe that has an annual funding agreement. The end result is the issuance of a report, which is required by 25 CFR 1000.365. Currently, Department of the Interior, Office of the Special Trustee for American Indians, Office of Trust Review & Audit (OTRA), conducts an on-site review of trust operations where a tribe has compacted a trust program. During that review, under current methodology, interviews are conducted and documents are requested on site. Information collected is then brought back to the Albuquerque office and analyzed. A draft report is written and provided to the tribe for comment where applicable, comments received back are incorporated into the report, and a final report is issued to the tribe. The purpose of this notice is to inform tribes and solicit comment that the method of collecting the information to conduct that annual evaluation is changing to an electronic method. Each year, tribes that compact trust programs will be asked to conduct an online assessment where they respond to questions, upload documentation, and provide a certification upon completion that answers provided are true and complete to the best of their knowledge. The information received will then be analyzed by OTRA, and a draft and or a final report will be issued. Pending the responses provided, additional information may be requested. An on-site inspection will still occur, however, it may be less often than annually.

This notice of proposed information collection is being published by the Office of Trust Review & Audit, Office of the Special Trustee for American Indians, Department of the Interior,

II. Data

Title: Tribal Evaluation of Indian Trust Programs Compacted by Tribes.

OMB Control Number: 1035-0NEW.

Current Expiration Date: Not Applicable.

Type of Review: New Information Collection.

Affected Entities: Tribes that have an annual funding agreement in place to compact Indian trust programs.

Estimated annual number of respondents: 111.

Frequency of responses: Once per fiscal or calendar year (year the respective tribe operates under).

(2) Annual reporting and recordkeeping burden:

Total annual reporting per program: 6 hours.

Total number of estimated responses: 111 tribes with an estimated average of 7 compacted programs each.

Total annual reporting: 4,662 hours.

(3) Description of the need and use of the information: The need and use of the information is to comply with 25 CFR 1000.355. The CFR requires an annual review of each Tribe that has an annual funding agreement in place. Information electronically received will be used to conduct an initial review of all these compacted tribes on an annual basis. After the information is received and analyzed, an on-site review will occur as needed, based on risk. When an on-site review does occur, it will involve less time on-site than occurs with the current on-site reviews, as much of the documentation will have been submitted electronically. We are converting from collecting the information manually to collecting the information electronically as it is more efficient.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the Office of Trust Review & Audit, Office of the Special Trustee for American Indians, by calling (505) 816-1257. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Nolan Solomon,
Management & Program Analyst, Program Management, Office of the Special Trustee for American Indians.

[FR Doc. 2015-12838 Filed 5-27-15; 8:45 am]

BILLING CODE 4334-63-P